DEPARTMENT OF STATE

[Public Notice: 12061]

Notice of the Program for the Study of Eastern Europe and Eurasia (Title VIII) Advisory Committee Open Virtual Meeting

ACTION: Notice of an advisory committee open meeting.

SUMMARY: Pursuant to section 10 of the Federal Advisory Committee Act (FACA), notice is hereby given to announce a public virtual meeting of the Title VIII Advisory Committee on Friday, June 30, 2023.

DATES: The meeting will begin at approximately 1:30 p.m. Eastern Daylight Time (EDT) on Friday, June 30, 2023.

FOR FURTHER INFORMATION CONTACT: Designated Federal Officer, Mr. Robert Zimmerman, telephone number 202-258-8024, Title VIII Program Officer, Department of State, Bureau of Intelligence and Research, TitleVIII@state.gov.

SUPPLEMENTARY INFORMATION: All meeting participants are being asked to RSVP by Wednesday, June 28, 2023, via email to TitleVIII@state.gov, subject line “Title VIII Advisory Committee Public Meeting 2023.” Members of the public requesting reasonable accommodation should make such requests when they register. Upon receipt of the RSVP, attendees will be registered, and will receive instructions for accessing the meeting, including the meeting number and any password. It is anticipated that the meeting will be held either via Google Meet or Zoom for Government. Members of the public who will participate are encouraged to logon 10 minutes prior to the start of the meeting.

Purpose of Meeting and Topics To Be Discussed: The Advisory Committee will announce its recommendations for grant recipients for the 2023 funding opportunity for the Program for the Study of Eastern Europe and the Independent States of the Former Soviet Union, in accordance with the Research and Training for Eastern Europe and the Independent States of the Former Soviet Union Act of 1983, Public Law 98-164, as amended. The agenda will include opening statements by the Committee chair and Committee members. The Committee will provide an overview and discussion of eligible grant proposals submitted from U.S organizations with an interest and expertise in conducting research and foreign language training concerning the countries and languages of Eastern Europe and the Independent States of the Former Soviet Union, based on the guidelines set forth in the March 25, 2023, request for proposals published on Grants.gov and SAMS Domestic (mygrants.service-now.com). Following Committee deliberation, interested members of the public may make oral statements concerning the Title VIII program. This meeting will be open to the public; however, attendees must register in advance.

Robert A. Zimmerman,
Designated Federal Officer, Advisory Committee for the Program for the Study of Eastern Europe and the Independent States of the Former Soviet Union, Department of State.

[FR Doc. 2023-08722 Filed 4-24-23; 8:45 am]

BILLING CODE 4710-32-P